DEPARTMENT OF TRANSPORTATION

Federal Aviation Administration

14 CFR Part 39

[Docket No. FAA-2025-1111; Project Identifier MCAI-2025-00675-R; Amendment 39-23067; AD 2025-13-01]

RIN 2120-AA64

Airworthiness Directives; Bell Textron Canada Limited Helicopters

AGENCY: Federal Aviation Administration (FAA), DOT.

ACTION: Final rule; request for comments.

SUMMARY: The FAA is adopting a new airworthiness directive (AD) for all Bell Textron Canada Limited (BTCL) Model 407 and 427 helicopters. This AD was prompted by a report that certain expandable blade bolts installed on the main rotor blade may not have received the correct heat treatment, which could result in stress corrosion cracking of the expandable blade bolts. This AD requires removing the expandable blade bolts from service and replacing them with a part eligible for installation. This AD also prohibits the installation of an affected expandable blade bolt on any helicopter. The FAA is issuing this AD to address the unsafe condition on these products.

DATES: This AD is effective July 8, 2025.

The FAA must receive comments on this AD by August 7, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-1111; or in person at Docket Operations between 9 a.m. and 5 p.m., Monday through Friday, except Federal holidays. The AD docket contains this final rule, the mandatory continuing airworthiness information (MCAI), any comments received, and other information. The street address for Docket Operations is listed above.

FOR FURTHER INFORMATION CONTACT: Adam Hein, Aviation Safety Engineer, FAA, 1600 Stewart Avenue, Suite 410, Westbury, NY 11590; phone: (316) 946-4116; email: adam.hein@faa.gov.

SUPPLEMENTARY INFORMATION:

Comments Invited

The FAA invites you to send any written data, views, or arguments about this final rule. Send your comments to an address listed under the ADDRESSES section. Include “Docket No. FAA-2025-1111; Project Identifier MCAI-2025-00675-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Adam Hein, Aviation Safety Engineer, FAA, 1600 Stewart Avenue, Suite 410, Westbury, NY 11590. Any commentary that the FAA receives which is not specifically designated as CBI will be placed in the public docket for this rulemaking.

Background

Transport Canada, which is the aviation authority for Canada, has issued Transport Canada AD CF-2025-21, dated April 22, 2025 (referred to as “the MCAI”), to address an unsafe condition on BTCL Model 407 and 427 helicopters. The MCAI states that part number 406-310-103-103 expandable blade bolts with certain serial numbers may not have received the correct heat treatment, which could result in stress corrosion cracking of the expandable blade bolts installed on the main rotor blade. The MCAI requires replacing the expandable blade bolts with serviceable expandable blade bolts. The MCAI also prohibits installing the affected expandable blade bolts on BTCL Model 407 and 427 helicopters.

The FAA is issuing this AD to address the unsafe condition on these products. The unsafe condition, if not addressed, could result in failure of the main rotor blade assembly, detachment of the main rotor blade, and consequent loss of control of the helicopter.

You may examine the MCAI in the AD docket at regulations.gov under Docket No. FAA-2025-1111.

FAA's Determination

These products have been approved by the civil aviation authority of another country and are approved for operation in the United States. Pursuant to the FAA's bilateral agreement with this State of Design Authority, that authority has notified the FAA of the unsafe condition described in the MCAI referenced above. The FAA is issuing this AD after determining that the unsafe condition described previously is likely to exist or develop on other products of the same type design.

Requirements of This AD

This AD requires removing the expandable blade bolts from service and installing an expandable blade bolt that does not have an affected serial number. This AD also prohibits installing an affected expandable blade bolt on any helicopter.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because expandable blade bolts are critical components that, if improperly heat-treated, could be subject to stress corrosion cracking. Stress corrosion cracking of the expandable blade bolts could result in the failure of the main rotor blade assembly, detachment of the main rotor blade, and consequent loss of control of the helicopter. This failure could happen at any time without any previous indications. Additionally, the initial actions required by this AD must be accomplished within 30 hours time-in-service or 30 days, whichever occurs first, which is shorter than the time necessary for the public to comment and for publication of the final rule. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 946 helicopters of U.S. registry. There are 20 expandable blade bolts identified as having this unsafe condition, and up to 4 expandable blade bolts could be installed per helicopter. The FAA has no way of knowing the number of helicopters of U.S. registry that may have an affected expandable blade bolt installed. The estimated cost on U.S. operators reflects the costs based on the number of expandable blade bolts that need to be replaced.

The FAA estimates the following costs to comply with this AD:

Estimated Costs
Action | Labor cost | Parts cost | Cost per product | Cost on U.S. operators
Replace expandable blade bolt (up to four bolts per helicopter) | 2 work-hours × $85 per hour = $170 | $5,271 per bolt | Up to $21,764 | $108,820

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-13-01 Bell Textron Canada Limited: Amendment 39-23067; Docket No. FAA-2025-1111; Project Identifier MCAI-2025-00675-R.

(a) Effective Date

This airworthiness directive (AD) is effective July 8, 2025.

(b) Affected ADs

None.

(c) Applicability

This AD applies to Bell Textron Canada Limited Model 407 and 427 helicopters, certificated in any category.

(d) Subject

Joint Aircraft System Component (JASC) Code 6210, Main Rotor Blades.

(e) Unsafe Condition

This AD was prompted by a report that certain expandable blade bolts installed on the main rotor blade may not have received the correct heat treatment, which could lead to stress corrosion cracking of the expandable blade bolts. The FAA is issuing this AD to prevent stress corrosion cracking of the expandable blade bolts installed on the main rotor blade. The unsafe condition, if not addressed, could result in failure of the main rotor blade assembly, detachment of the main rotor blade, and consequent loss of control of the helicopter.

(f) Compliance

Comply with this AD within the compliance times specified, unless already done.

(g) Required Actions

Within 30 hours time-in-service or 30 days, whichever occurs first after the effective date of this AD, remove from service each affected part and replace with a part eligible for installation.

(h) Parts Installation Prohibition

As of the effective date of this AD, do not install an affected part as defined in this AD on any helicopter.

(i) Definitions

For the purpose of this AD, the following definitions apply:

(1) An “affected part” is an expandable blade bolt having part number (P/N) 406-310-103-103 and a serial number SLFS9386 through SLFS9405 inclusive.

(2) A “part eligible for installation” is an expandable blade bolt having P/N 406-310-103-103 that does not have a serial number listed in paragraph (i)(1) of this AD.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov.

(2) Before using any approved AMOC, notify your appropriate principal inspector, or lacking a principal inspector, the manager of the local flight standards district office/certificate holding district office.

(k) Additional Information

For more information about this AD, contact Adam Hein, Aviation Safety Engineer, FAA, 1600 Stewart Avenue, Suite 410, Westbury, NY 11590; phone: (316) 946-4116; email: adam.hein@faa.gov.

(l) Material Incorporated by Reference

None.

Issued on June 17, 2025.
Steven W. Thompson,
Acting Deputy Director, Compliance & Airworthiness Division, Aircraft Certification Service.

[FR Doc. 2025-11449 Filed 6-18-25; 11:15 am]

BILLING CODE 4910-13-P